GENERAL SERVICES ADMINISTRATION

Office of Governmentwide Policy; Cancellation of an Optional Form by the Department of Defense

AGENCY: General Services Administration.

ACTION: Notice.

SUMMARY: The Department of Defense is cancelling the following Optional Form because of low demand in the Federal Supply Service:

OF 84, Not Mission Capable Supply (3″ x 5″) (Label).

FOR FURTHER INFORMATION CONTACT: Ms. Glynda Hughes, Department of Defense, 703-604-4578.

DATES: Effective September 15, 2003.

Dated: September 8, 2003.
Barbara M. Williams,
Deputy Standard and Optional Forms Management Officer, General Services Administration.

[FR Doc. 03-23423 Filed 9-12-03; 8:45 am]

BILLING CODE 6820-34-M